DEPARTMENT OF TRANSPORTATION

Coast Guard

[CGD1-01-019]

Environmental Assessment and Finding of No Significant Impact for Establishment of U.S. Coast Guard Station (Small) Kings Point at the United States Merchant Marine Academy, Kings Point, New York

AGENCY: Coast Guard, DOT.

ACTION: Notice of availability.

SUMMARY: The U.S. Coast Guard (USCG) announces the availability of the Final Environmental Assessment (FEA) and Finding of No Significant Impact (FONSI) regarding the establishment of U.S. Coast Guard Station (Small) Kings Point at the United States Merchant Marine Academy, Kings Point, New York. This FEA evaluates the environmental and socioeconomic impacts of establishing the Coast Guard station along with the associated acquisition of property and building construction. It also includes comments received as a result of consultation with regulatory and other government agencies during development of the Environmental Assessment.

ADDRESSES: Written requests for copies of the Final Environmental Assessment and FONSI, or requests for information, should be directed to: Mr. Luke Dlhopolsky, U.S. Coast Guard Civil Engineering Unit Providence, 300 Metro Center Boulevard, Warwick, Rhode Island 02886 or by calling (401) 736-1743.

FOR FURTHER INFORMATION CONTACT: For questions on this notice, the FEA or FONSI, or for general information on the U.S. Coast Guard's National Environmental Policy Act (NEPA) process, please contact Mr. Luke Dlhopolsky, U.S. Coast Guard Civil Engineering Unit Providence, 300 Metro Center Boulevard, Warwick, Rhode Island 02886 or by calling (401) 736-1743.

SUPPLEMENTARY INFORMATION: The U.S. Coast Guard Station at Fort Totten, New York was formally closed in 1997. In its place an Independent Maritime Response Vessel (IMARV) unit was established. The IMARV unit required little to no shore facility support since the assigned vessel was to serve as the unit operational equipment as well as provide berthing for the duty crew. This change allowed the Coast Guard to divert funding from maintenance of unneeded, aging shoreside structures at Station Fort Totten to more critical mission support. After a period of time that the IMARV was in operation from the pier at Fort Totten, it became apparent that the lack of work space and cramped quarters was making the IMARV concept untenable and it was formally discontinued in 1998. Since it was determined that Coast Guard presence in the IMARV and former Station Fort Totten area of responsibility (AOR) was important to the safety of navigation, the Coast Guard decided that a permanent shore station needed to be re-established in the area. The EA analyzes three plausible alternatives with regard to this determination. The No Action Alternative would provide no nearby Coast Guard coverage in AOR once the IMARV vessel was no longer in service and the personnel were transferred elsewhere. This alternative was found to be unacceptable in the interest of the safety of navigation in the service area. Re-establishment of a Station at Fort Totten would involve significant costs to demolish existing structures and rebuild a suitable station multimission building. In addition, the aged and deteriorated utility infrastructure at Fort Totten is in need of major repair and/or replacement. These factors caused the Coast Guard to seek a third alternative to re-establish a shore station in the AOR, but at another similarly central site. Waterfront access and sufficient space to construct a new station building of suitable size was determined to be available at the U.S. Merchant Marine Academy at Kings Point, a short distance from Fort Totten. The Final EA incorporates the results of comments received from state and federal agencies consulted during development of the Environmental Assessment.

The Final EA, FONSI and comments received during development of the EA are available for public inspection at the following locations:

USCG Civil Engineering Unit Providence, 300 Metro Center Boulevard, Warwick, Rhode Island 02886 (401) 736-1743.

First Coast Guard District Planning Staff, 408 Atlantic Avenue, Boston, Massachusetts 02110 (617) 223-8248.

Commandant (G-SEC), U.S. Coast Guard Headquarters, 2100 2nd Street, SW., Washington, DC 20593.

Dated: February 23, 2001.
G.N. Naccara,
Rear Admiral, U.S. Coast Guard, Commander, First Coast Guard District.

[FR Doc. 01-9536 Filed 4-17-01; 8:45 am]

BILLING CODE 4910-15-U